DEPARTMENT OF THE INTERIOR

National Park Service

[NPS-NERO-ACAD-18756; PPNEACADSO, PPMPSPDIZ.YM0000]

Notice of September 14, 2015, Meeting for Acadia National Park Advisory Commission

AGENCY: National Park Service, Interior.

ACTION: Meeting notice.

SUMMARY: This notice sets the date of September 14, 2015, meeting of the Acadia National Park Advisory Commission.

DATES: The public meeting of the Advisory Commission will be held on Monday, September 14, 2015, at 1:00 p.m. (EASTERN).

ADDRESSES: The meeting will be held at Schoodic Education and Research Center, Winter Harbor, Maine 04693.

Agenda

The Commission meeting will consist of the following proposed agenda items:

1. Committee Reports

• Land Conservation

• Park Use

• Science and Education

• Historic

2. Old Business

3. Superintendent's Report

4. Chairman's Report

5. Public Comments

6. Adjournment

FOR FURTHER INFORMATION CONTACT: Sheridan Steele, Superintendent, Acadia National Park, P.O. Box 177, Bar Harbor, Maine 04609, telephone (207) 288-3338.

SUPPLEMENTARY INFORMATION: The meeting is open to the public. Interested persons may make oral or written presentations to the Commission or file written statements. Such requests should be made to the Superintendent at least seven days prior to the meeting. Before including your address, telephone number, email address, or other personal identifying information in your comment, you should be aware that your entire comment—including your personal identifying information—may be made publicly available at any time. While you may ask us in your comment to withhold your personal identifying information from public review, we cannot guarantee that we will be able to do so.

Dated: August 4, 2015.
Alma Ripps,
Chief, Office of Policy.

[FR Doc. 2015-19639 Filed 8-10-15; 8:45 am]

BILLING CODE 4310-70-P